ENVIRONMENTAL PROTECTION AGENCY

[FRL-9455-6]

Clean Water Act Section 303(d): Final Agency Action on 16 Total Maximum Daily Loads (TMDLs) in Arkansas

AGENCY: Environmental Protection Agency (EPA).

ACTION: Notice of availability.

SUMMARY: This notice announces the final agency action on 16 TMDLs established by EPA Region 6 for waters listed in the State of Arkansas, under section 303(d) of the Clean Water Act (CWA). Documents from the administrative record files for the final 16 TMDLs, including TMDL calculations may be viewed at http://www.epa.gov/region6/water/npdes/tmdl/index.htm.

ADDRESSES: The administrative record files for these 16 TMDLs may be obtained by writing or calling Ms. Diane Smith, Environmental Protection Specialist, Water Quality Protection Division, U.S. Environmental Protection Agency Region 6, 1445 Ross Ave., Dallas, TX 75202-2733. Please contact Ms. Smith to schedule an inspection.

FOR FURTHER INFORMATION CONTACT: Diane Smith at (214) 665-2145.

EPA Takes Final Agency Action on 16 TMDLs

By this notice EPA is taking final agency action on the following 16 TMDLs for waters located within the State of Arkansas:

Segment-reach | Waterbody name | Pollutant
08040202-006 | Bayou de L'Outre | Chloride, Sulfate, TDS.
08040202-007 | Bayou de L'Outre | Chloride, Sulfate, TDS.
08040202-008 | Bayou de L'Outre | Chloride, Sulfate, TDS.
08040203-010 | Saline River | TDS.
08040204-006 | Saline River | TDS.
08040206-015 | Big Cornie Creek | Sulfate.
08040206-016 | Little Cornie Creek | Sulfate.
08040206-716 | Little Cornie Bayou | Sulfate.
08040206-816 | Little Cornie Bayou | Sulfate.
08040206-916 | Walker Branch | Sulfate

EPA requested the public to provide EPA with any significant data or information that might impact the 16 TMDLs at Federal Register Notice: Volume 72, Number 241, pages 71409 and 71410 (December 17, 2007). The comments, EPA's response to comments, and the TMDLs may be found at http://www.epa.gov/region6/water/npdes/tmdl/index.htm.

Dated: August 16, 2011
William K. Honker,
Acting Director, Water Quality Protection Division, EPA Region 6.

[FR Doc. 2011-21711 Filed 8-23-11; 8:45 am]

BILLING CODE 6560-50-P